DEPARTMENT OF ENERGY

Federal Energy Regulatory Commission

[Docket No. RP01-172-004]

Mojave Pipeline Company; Notice of Compliance Filing

January 3, 2002.

Take notice that on December 28, 2001, Mojave Pipeline Company (Mojave) tendered for filing as part of its FERC Gas Tariff, Second Revised Volume No. 1, the following tariff sheet, with an effective date of February 1, 2002:

Seventh Revised Sheet No. 11

First Revised Sheet No. 105

First Revised Sheet No. 134

Original Sheet No. 243

Original Sheet No. 244

Original Sheet No. 245

Original Sheet No. 246

Sheet Nos. 247 through 399

Mojave states that the tariff sheets are being filed to comply with the Commission's order issued December 21, 2001 and to implement the terms of the Offer of Settlement and Stipulation and Agreement filed in this proceeding. The tariff sheets are proposed to become effective February 1, 2002.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-467 Filed 1-7-02; 8:45 am]

BILLING CODE 6717-01-P